SMALL BUSINESS ADMINISTRATION

[Declaration of Disaster #3631]

State of Ohio

As a result of the President's major disaster declaration on September 19, 2004, I find that Belmont, Carroll, Columbiana, Guernsey, Harrison, Jefferson, Monroe, Morgan, Muskingum, Noble, Perry, Stark, Trumbull, Tuscarawas, and Washington Counties in the State of Ohio constitute a disaster area due to damages caused by severe storms and flooding occurring on September 8, 2004, and continuing. Applications for loans for physical damage as a result of this disaster may be filed until the close of business on November 18, 2004 and for economic injury until the close of business on June 20, 2005 at the address listed below or other locally announced locations: U.S. Small Business Administration, Disaster Area 2 Office, One Baltimore Place, Suite 300, Atlanta, GA 30308.

In addition, applications for economic injury loans from small businesses located in the following contiguous counties may be filed until the specified date at the above location: Ashtabula, Athens, Coshocton, Fairfield, Geauga, Hocking, Holmes, Licking, Mahoning, Portage, Summit, and Wayne in the State of Ohio; Beaver, Crawford, Lawrence, and Mercer Counties in the Commonwealth of Pennsylvania; Brooke, Hancock, Marshall, Ohio, Pleasants, Tyler, Wetzel, and Wood Counties in the State of West Virginia.

The interest rates are:

For Physical Damage

Homeowners With Credit Available Elsewhere | 6.375%
Homeowners Without Credit Available Elsewhere | 3.187%
Businesses With Credit Available Elsewhere | 5.800%
Businesses and Non-Profit Organizations Without Credit Available Elsewhere | 2.900%
Others (Including Non-Profit Organizations) With Credit Available Elsewhere | 4.875%

For Economic Injury

Businesses and Small Agricultural Cooperatives Without Credit Available Elsewhere | 2.900%

The number assigned to this disaster for physical damage is 363106. For economic injury the number is 9ZY700 for Ohio; 9ZY800 for Pennsylvania; and 9ZY900 for West Virginia.

(Catalog of Federal Domestic Assistance Program Nos. 59002 and 59008).
Dated: September 21, 2004.
Herbert L. Mitchell,
Associate Administrator for Disaster Assistance.

[FR Doc. 04-21905 Filed 9-29-04; 8:45 am]

BILLING CODE 8025-01-P